DEPARTMENT OF HOUSING AND URBAN DEVELOPMENT

[Docket No. FR-5683-N-15]

Notice of Submission of Proposed Information Collection to OMB: Survey and Collection of Information From HUD Healthy Housing Demonstration Grantees

AGENCY: Office of the Chief Information Officer, HUD.

ACTION: Notice.

SUMMARY: The proposed information collection requirement described below has been submitted to the Office of Management and Budget (OMB) for review, as required by the Paperwork Reduction Act. The Department is soliciting public comments on the subject proposal.

The mission of HUD's Healthy Homes Program is “To reduce health and safety hazards in housing in a comprehensive and cost effective manner, with a particular focus on protecting the health of children and other sensitive populations in low income households.” (Leading Our Nation to Healthier Homes: The Healthy Homes Strategic Plan, U.S. Department of Housing and Urban Development Office of Healthy Homes and Lead Hazard Control, 2010, p. 7.) An evaluation and summarization of grants awarded under the program was last completed in 2005 (“An Evaluation of HUD's Healthy Homes Initiative: Current Findings and Outcomes,” Healthy Housing Solutions, March 5, 2007). The objectives of the Healthy Homes Demonstration (HHD) grants that will be evaluated through the effort described in this notice include:

• Carrying out direct remediation where housing-related hazards may contribute to injury or illness, with a focus on children's health;

• Delivering education and outreach activities to protect children from housing-related hazards; and

• Building capacity to increase the probability that aspects of grant-supported Healthy Homes programs are sustained.

OHHLHC intends to administer an online questionnaire for up to 30 HHD grantees. This questionnaire will capture key project information to supplement information already available in reports and manuscripts from the approximately 54 HHD grants that were awarded from fiscal years 2005 to 2009, including any 2004 grant not included in the earlier evaluation, and any more recent grantee whose grant ends this fiscal year. OHHLHC is especially interested in determining whether any of the grantee's data sets (i.e., resulting from project evaluation) would be of value to OHHLHC for additional analyses. After a review of available reports and manuscripts, OHHLHC anticipates roughly half of these grantees (up to 30) will be asked to complete the online questionnaire. OHHLHC will target those grantees that have carried out the greatest number of interventions, collected the most detailed evaluation data on cost, health and housing impacts and outcomes, and can demonstrate significant capacity- building and sustainable approaches to guide policy development and guidance for future healthy homes efforts. A questionnaire was developed for the 2005 evaluation that captured key information about recruitment/enrollment, assessment, interventions, skills training, and community education/outreach in HHI grantee projects. This questionnaire will be modified for this new data collection effort. The online questionnaire will be administered through a secure Web site.

DATES: Comments Due Date: April 4, 2013.

ADDRESSES: Interested persons are invited to submit comments regarding this proposal. Comments should refer to the proposal by name and/or OMB approval Number (2539-New) and should be sent to: HUD Desk Officer, Office of Management and Budget, New Executive Office Building, Washington, DC 20503; fax: 202-395-5806. Email: OIRA Submission@omb.eop.gov.

FOR FURTHER INFORMATION CONTACT: Colette Pollard, Reports Management Officer, QDAM, Department of Housing and Urban Development, 451 Seventh Street SW., Washington, DC 20410; e-mail Colette Pollard at Colette.Pollard@hud.gov. or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposed: Survey and Collection From HUD Healthy Housing Demonstration Grantees.

OMB Approval Number: 2539-New.

Form Numbers: None.

Description of the need for the information and proposed use: The mission of HUD's Healthy Homes Program is “To reduce health and safety hazards in housing in a comprehensive and cost effective manner, with a particular focus on protecting the health of children and other sensitive populations in low income households.” (Leading Our Nation to Healthier Homes: The Healthy Homes Strategic Plan, U.S. Department of Housing and Urban Development Office of Healthy Homes and Lead Hazard Control, 2010, p. 7.) An evaluation and summarization of grants awarded under the program was last completed in 2005 (“An Evaluation of HUD's Healthy Homes Initiative: Current Findings and Outcomes,” Healthy Housing Solutions, March 5, 2007). The objectives of the Healthy Homes Demonstration (HHD) grants that will be evaluated through the effort described in this notice include:

• Carrying out direct remediation where housing-related hazards may contribute to injury or illness, with a focus on children's health;

• Delivering education and outreach activities to protect children from housing-related hazards; and

• Building capacity to increase the probability that aspects of grant-supported Healthy Homes programs are sustained.

OHHLHC intends to administer an online questionnaire for up to 30 HHD grantees. This questionnaire will capture key project information to supplement information already available in reports and manuscripts from the approximately 54 HHD grants that were awarded from fiscal years 2005 to 2009, including any 2004 grant not included in the earlier evaluation, and any more recent grantee whose grant ends this fiscal year. OHHLHC is especially interested in determining whether any of the grantee's data sets (i.e., resulting from project evaluation) would be of value to OHHLHC for additional analyses. After a review of available reports and manuscripts, OHHLHC anticipates roughly half of these grantees (up to 30) will be asked to complete the online questionnaire. OHHLHC will target those grantees that have carried out the greatest number of interventions, collected the most detailed evaluation data on cost, health and housing impacts and outcomes, and can demonstrate significant capacity- building and sustainable approaches to guide policy development and guidance for future healthy homes efforts. A questionnaire was developed for the 2005 evaluation that captured key information about recruitment/enrollment, assessment, interventions, skills training, and community education/outreach in HHI grantee projects. This questionnaire will be modified for this new data collection effort. The online questionnaire will be administered through a secure Web site.

Total Burden Estimate
Requirement | Number of respondents | Hours per respondent | Total hours | Cost per hour | Labor cost | Startup cost | O&M cost | Total cost
Complete questionnaire | 30 | 16 | 480 | $32.75 | $15,720 | $0 | $0 | $15,720
Total | 30 | 16 | 480 |  | $15,720 | $0 | $0 | $15,720

Status: New collection.

Authority: Section 3507 of the Paperwork Reduction Act of 1995, 44 U.S.C. 35, as amended

Dated: February 27, 2013.
Colette Pollard,
Department Reports Management Officer, Office of the Chief Information Officer.

[FR Doc. 2013-05080 Filed 3-4-13; 8:45 am]

BILLING CODE 4210-67-P